DEPARTMENT OF TRANSPORTATION

Federal Aviation Administration

Notice of Intent To Rule on Application (01-02-U-00-SGU) To Use the Revenue From a Passenger Facility Charge (PFC) at the St. George Municipal Airport, Submitted by the City of St. George, St. George, Utah

AGENCY: Federal Aviation Administration (FAA), DOT.

ACTION: Notice of intent to rule on application.

SUMMARY: The FAA proposes to rule and invites public comment on the application to use PFC revenue at the St. George Municipal Airport under the provisions of 49 U.S.C. 40117 and part 158 of the Federal Aviation Regulations (14 CFR part 158).

DATES: Comments must be received on or before July 2, 2001.

ADDRESSES: Comments on this application may be mailed or delivered in triplicate to the FAA at the following address: Alan E. Wiechmann, Manager; Denver Airports District Office, DEN-ADO; Federal Aviation Administration; 26805 E. 68th Avenue, Suite 224; Denver, CO 80249-6361.

In addition, one copy of any comments submitted to the FAA must be mailed or delivered to Mr. Larry H. Bulloch, Director of Public Works, at the following address: City of St. George, 175 East 200 North, St. George, Utah 84770.

Air Carriers and foreign air carriers may submit copies of written comments previously provided to the St. George Municipal Airport, under § 158.23 of part 158.

FOR FURTHER INFORMATION CONTACT: Mr. Chris Schaffer, (303) 342-1258; Denver Airports District Office, DEN-ADO; Federal Aviation Administration; 26805 68th Avenue, Suite 224; Denver, CO 80249-6361. The application may be reviewed in person at this same location.

SUPPLEMENTARY INFORMATION: The FAA proposes to rule and invites public comment on the application (01-02-U-00-SGU) to use PFC revenue at the St. George Municipal Airport, under the provisions of 49 U.S.C. 40117 and part 158 of the Federal Aviation Regulations (14 CFR part 158).

On May 29, 2001, the FAA determined that the application to use the revenue from a PFC submitted by the City of St. George, St. George Municipal Airport, St. George, Utah, was substantially complete within the requirements of § 158.25 of part 158. The FAA will approve or disapprove the application, in whole or in part, no later than August 28, 2001.

The following is a brief overview of the application.

Level of the approved PFC: $3.00.

Charge effective date: May 1, 1998.

Proposed charge expiration date: September 1, 2002.

Total requested for use approval: $330,000.00.

Brief description of projects: rehabilitate Runway 16/34, Expand passenger terminal vehicle parking lot.

Class or classes of air carriers from which the public agency is not required to collect PFC's: Unscheduled part 135 air taxi operators.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the St. George Municipal Airport.

Issued in Renton, Washington on May 29, 2001.
David A. Field,
Manager, Planning, Programming and Capacity Branch, Northwest Mountain Region.

[FR Doc. 01-13960 Filed 6-1-01; 8:45 am]

BILLING CODE 4910-13-M